DEPARTMENT OF HOMELAND SECURITY

Federal Emergency Management Agency

44 CFR Part 67

[Docket No. FEMA-D-7642]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location | # Depth in feet above ground *Elevation in feet (NGVD) • Elevation in feet (NAVD): Existing | # Depth in feet above ground *Elevation in feet (NGVD) • Elevation in feet (NAVD): Modified | Communities affected
ARIZONA
Coconino County
Peak View Wash:
At the confluence with Rio de Flag | • 7,111 | • 7,112 | City of Flagstaff.
Approximately 120 feet upstream of Lois Lane | • 7,121 | • 7,123 |
Schultz Creek:
At the confluence with Rio de Flag | None | #1 | Coconino County.
Approximately 125 feet upstream of North Fort Valley Road | None | #1 | (Unincorporated Areas), City of Flagstaff.
Approximately 125 feet upstream of North Fort Valley Road | None | • 7,006 | Coconino County.
Just downstream of North Schultz Pass Road | None | •7,140 | (Unincorporated Areas), City of Flagstaff.
Switzer Canyon Wash:
Approximately 170 feet upstream of U.S. Route 66 (Santa Fe Avenue) | • 6,865 | • 6,869 | Coconino County.
Approximately 0.6 mile upstream of West Fir Avenue | • 7,029 | •7,030 | (Unincorporated Areas), City of Flagstaff.
Bow and Arrow Wash:
Just downstream of Lone Tree Road | • 6,879 | • 6,878 | City of Flagstaff.
Approximately 0.3 mile upstream of Lake Mary Road | None | • 6,949
Rio de Flag:
Approximately 868 feet upstream of Townsend-Winona Road | None | • 6,617 | Coconino County.
Approximately 580 feet downstream of Hidden Hollow Road | • 7,147 | • 7,148 | (Unincorporated Areas), City of Flagstaff.
Coconino County (Unincorporated Areas)
Maps available for inspection at the Coconino County Community Development, 2500 North Fort Valley Road, Flagstaff, Arizona.
Send comments to Mr. Bill Towler, Coconino County Community Development Director, 2500 North Fort Valley Road, Flagstaff, Arizona 86001.
City of Flagstaff
Maps available for inspection at the City of Flagstaff Community Development, 211 West Aspen Avenue, Flagstaff, Arizona.
Send comments to Mr. Malcolm Alter, City of Flagstaff Stormwater Manager, 211 West Aspen Avenue, Flagstaff, Arizona 86001.
ARIZONA
Yuma County
Colorado River:
At the downstream county boundary | None | • 94 | Yuma County (Unincorporated Areas), Cities of Yuma and San Luis.
At the upstream county boundary | None | • 202 |
Yuma County (Unincorporated Areas)
Maps available for inspection at the Yuma County Community Department of Development Services, 2351 West 26th Street, Yuma, Arizona.
Send comments to Ms. Kathryn Prochaska, Chairperson of the Yuma County Board of Supervisors, 198 South Main Street, Yuma Arizona 85364.
City of Yuma
Maps available for inspection at the Yuma City Department of Development Services, One City Plaza, Yuma, Arizona.
Send comments to The Honorable Lawrence K. Nelson, Mayor of the City of Yuma, P.O. Box 13014, Yuma, Arizona 85366-3014.
City of San Luis
Maps available for inspection at the San Luis City Public Works Administration Office, 751 North 4th Avenue, San Luis, Arizona.
Send comments to The Honorable Guillermina Fuentes, Mayor of the City of San Luis, 767 North 1st Street, San Luis, Arizona 83459.
CALIFORNIA
Marin County
Corte Madera Creek:
Approximately 100 feet upstream of Bon Air Road | None | *6 | Marin County (Unincorporated Areas), City of Larkspur.
Approximately 0.7 mile downstream of U.S. Highway 101 | None | *6
City of Larkspur
Maps available for inspection at the City of Larkspur Building Department, 400 Magnolia Avenue, Larkspur, California.
Send comments to Ms. Jean Bonander, Larkspur City Manager, 400 Magnolia Avenue, Larkspur, California 94939.
Marin County (Unincorporated Areas)
Maps available for inspection at the Marin County Department of Public Works, Land Development Section, 3501 Civic Center Drive, San Rafael, California.
Send comments to Mr. Harold C. Brown, Jr., Chairman of the Marin County Board of Supervisors, 3501 Civic Center Drive, Room 329, San Rafael, California 94903.
CALIFORNIA
Ventura County
Arroyo Santa Rosa:
At the confluence with Conejo Creek | • 232 | • 234 | Unincorporated Areas of Ventura County.
Approximately 0.59 mile upstream of East Las Posas Road | • 381 | • 379 |
Arroyo Santa Rosa Overflow:
Between Arroyo Santa Rosa and Arroyo Santa Rosa Tributary at East Las Posas Road | #3 | #2 | Unincorporated Areas of Ventura County.
Arroyo Santa Rosa Tributary:
At the confluence with Arroyo Santa Rosa | • 257 | • 253 | Unincorporated Areas of Ventura County, City of Thousand Oaks.
Approximately 400 feet upstream of Santa Rosa Road | None | • 380 |
Calleguas Creek:
At the downstream side of State Highway 1 | None | •23 | Unincorporated Areas of Ventura County, City of Camarillo, City of Moorpark, City of Simi Valley.
Approximately 0.96 mile upstream of Collins Drive | •624 | •619
Camarillo Hills Drain:
Approximately 0.9 mile upstream of the confluence with Revolon Slough | •63 | •62 | Unincorporated Areas of Ventura County, City of Camarillo.
Approximately 190 feet downstream of South Las Posas Road | •90 | •91
Conejo Creek:
At the confluence with Calleguas Creek | None | •95 | Unincorporated Areas of Ventura County, City of Camarillo, City of Thousand Oaks.
Approximately 0.47 mile upstream of the confluence of Arroyo Santa Rosa | None | •247
Gabbert Canyon:
At the confluence with Calleguas Creek | None | •425 | Unincorporated Areas of Ventura County.
At the confluence of Walnut Canyon Drain | None | •451
Lang Creek:
At the confluence with Arroyo Conejo | None | •728 | City of Thousand Oaks.
Approximately 520 feet upstream of Combes Avenue | None | •772
Peach Hill Wash:
At the confluence with Calleguas Creek | •427 | •425 | Unincorporated Areas of Ventura County, City of Moorpark.
Approximately 1.59 miles upstream of Country Hill Road | •536 | •537
Somis Drain:
At the confluence with Calleguas Creek | None | •166 | City of Camarillo.
Approximately 100 feet upstream of East Landen Street | None | •202
Thousand Oaks North Drain:
At the confluence with Arroyo Conejo | None | •736 | City of Thousand Oaks.
Approximately 800 feet upstream of El Cerrito Drive | None | •889
Walnut Canyon Drain:
At the confluence with Gabbert Canyon | None | •451 | Unincorporated Areas of Ventura County, City of Moorpark.
Approximately 2,840 feet upstream of Casey Road | None | •645
City of Camarillo
Maps are available for inspection at the Camarillo City Hall, 601 Carmen Drive, Camarillo, California.
Send comments to The Honorable Kevin Kildee, Mayor of the City of Camarillo, 601 Carmen Drive, Camarillo, California 93010.
City of Moorpark
Maps are available for inspection at the Moorpark City Hall, 799 Moorpark Avenue, Moorpark, California.
Send comments to Mr. Steven Kueny, Moorpark City Manager, 799 Moorpark Avenue, Moorpark, California 93021.
City of Simi Valley
Maps are available for inspection at the Simi Valley City Hall, 2929 Tapo Canyon Road, Simi Valley, California.
Send comments to Mr. Mike Sedell, Simi Valley City Manager, 2929 Tapo Canyon Road, Simi Valley, California 93063.
City of Thousand Oaks
Maps are available for inspection at the City of Thousand Oaks Public Works Department, 2100 Thousand Oaks Boulevard, Thousand Oaks, California.
Send comments to Mr. Scott Mitnick, Thousand Oaks City Manager, 2100 Thousand Oaks Boulevard, Thousand Oaks, California 91362.
Unincorporated Areas of Ventura County
Maps are available for inspection at the Ventura County Hall of Administration, 800 South Victoria Avenue, Ventura, California.
Send comments to Ms. Kathy Long, Chairman of the Ventura County Board of Supervisors, c/o the Clerk of the Board of Supervisors, Ventura, California 93009.
NEW JERSEY
Ocean County
Cedar Creek:
Approximately 0.37 mile downstream of U.S. Route 9 | None | •5 | Township of Lacey.
Just upstream of the southbound lanes of Garden State Parkway | None | •19
Jakes Branch:
Just upstream of County Route 619 | None | •16 | Township of Beachwood.
Approximately 0.34 mile upstream of County Route 619 | None | •19
North Branch Metedeconk River: Approximately 95 feet downstream of State Route 88 | None | •9 | Township of Brick.
Atlantic Ocean: Approximately 0.31 mile southeast of the intersection of State Route 88 and County Route 604 | •7 | •10 | Borough of Point Pleasant.
North Branch Beaverdam Creek: Entire shoreline | •7 | •5 | Borough of Point Pleasant.
Barnegat Bay: Entire shoreline | •7 | •5 | Borough of Point Pleasant.
Bayhead Harbor: Entire shoreline | •7 | •5 | Borough of Point Pleasant.
Borough of Beachwood
Maps available for inspection at the Beachwood Borough Municipal Building, 1600 Pinewald Road, Beachwood, New Jersey.
Send comments to The Honorable Harold Morris, Mayor of the Borough of Beachwood, 1600 Pinewald Road, Beachwood, New Jersey 08722.
Township of Brick
Maps available for inspection at the Brick Municipal Building, 401 Chambersbridge Road, Brick, New Jersey.
Send comments to The Honorable Joseph C. Scarpelli, Mayor of the Township of Brick, 401 Chambersbridge Road, Brick, New Jersey 08723.
Township of Lacey
Maps available for inspection at the Lacey Township Municipal Building, 818 Lacey Road, Forked River, New Jersey.
Send comments to Mr. John Adams, Lacey Township Administrator, 818 Lacey Road, Forked River, New Jersey 08731.
Borough of Point Pleasant
Maps available for inspection at the Point Pleasant Borough Municipal Building, 2233 Bridge Avenue, Point Pleasant, New Jersey.
Send comments to The Honorable Martin Konkus, Mayor of the Borough of Point Pleasant, P.O. Box 25, Point Pleasant, New Jersey 08742.
NEW YORK
Cayuga County
Cayuga Lake:
Entire shoreline within communities | None | •386 | Town of Aurelius, Town of Genoa, Town of Ledyard, Town of Springport.
Entire shoreline within community | •387 | •386 | Village of Cayuga.
Cold Spring Brook (Reach 2):
Approximately 2,200 feet upstream of State Street | None | •554 | City of Auburn, Town of Throop.
Approximately 1,380 feet upstream of York Street | None | •590
Cold Spring Brook/North Brook:
At confluence with Seneca River/Erie Canal | None | •383 | Town of Brutus, Town of Mentz, Village of Weedsport.
Approximately 4,550 feet upstream of Hamilton Road | None | •420
Crane Brook:
Approximately 3,175 feet downstream of Conrail | None | •589 | City of Auburn, Town of Aurelius.
Approximately 1,600 feet upstream of Genesee Street | None | •649
Dry Creek:
At confluence with Owasco Inlet | •733 | •731 | Village of Moravia, Town of Moravia.
Approximatelty 1,840 feet upstream of Main Street | None | •773
Dutch Hollow Brook:
Approximately 780 feet upstream of confluence with Owasco Lake | •718 | •717 | Town of Oswasco.
Approximately 2,480 feet upstream of State Route 38A (East Lake Road) | None | •743
Hunter Brook:
Approximately 520 feet downstream of Conrail | None | •644 | City of Auburn.
Approximately 1,370 feet upstream of Marvine Avenue | •760 | •761
Approximately 520 feet downstream of Conrail | None | •644 | City of Auburn.
Approximately 1,370 feet upstream of Marvine Avenue | •760 | •761
Hunter Brook Tributary 1:
Approximately 1,960 feet downstream of Grant Avenue | None | •653 | City of Auburn.
Approximately 1,135 feet upstream of Prospect Street | •754 | •755
Hunter Brook Tributary 2:
At confluence with Hunter Brook | •720 | •716 | City of Auburn, Town of Oswasco.
Approximately 940 feet upstream of Second Avenue | None | •767
Mill Creek:
At confluence with Owasco Inlet | •729 | •728 | Town of Moravia, Village of Moravia.
Approximately 2,650 feet upstream of East Cayuga Street (State Route 38A) | None | •783
North Brook Tributary 1:
At the confluence with North Brook | •398 | •400 | Town of Brutus.
Approximately 580 feet upstream of Hamilton Road | None | •420
Owasco Inlet:
Approximately 2,070 feet downstream of State Route 38 | None | •722 | Village of Moravia, Town of Moravia, Town of Locke.
Approximately 2.16 miles upstream of Aurora Street | None | •744
Owasco Lake:
Entire shoreline within community | None | •717 | Town of Fleming, Town of Moravia, Town of Niles, Town of Scipio, Town of Venice.
Owasco Lake Outlet:
Approximately 4,925 feet upstream of Sperry Road | •384 | •385 | Town of Mentz, Town of Throop, Village of Port Byron.
Approximately 1,930 feet upstream of Hayden Road | None | •427
Owasco Outlet:
Approximately 900 feet downstream of Canoga Street | •551 | •553 | City of Auburn, Town of Aurelius, Town of Fleming, Town of Oswasco.
Approximately 1,040 feet upstream of State Route 437 (White Bridge Road) | •717 | •716
Paines Creek:
Approximately 25 feet downstream of State Route 90 (Main Street) | •386 | •387 | Village of Aurora, Town of Ledyard.
Approximately 1,000 feet upstream of State Route 90 (Main Street) | None | •389 |
Putnam Brook:
At confluence with Cold Spring Brook | •391 | •389 | Town of Brutus.
Approximately 2,200 feet upstream of Stevens Road | •573 | •571 |
At confluence with Cold Spring Brook | •391 | •389 | Town of Brutus.
Approximately 2,200 feet upstream of Stevens Road | •573 | •571 |
Putnam Brook Tributary No. 1:
At confluence with Putnam Brook | •453 | •454 | Town of Brutus, Town of Sennett.
Approximately 2,710 feet upstream of Shepherd Road | None | •562 |
Putnam Brook Tributary No. 2:
At confluence with Putnam Brook | •483 | •485 | Town of Brutus.
Approximately 2,340 feet upstream of Brutus Street (upstream crossing) | None | •539 |
Putnam Brook Tributary No. 3:
Approximately 110 feet upstream of confluence with Putnam Brook | •525 | •524 | Town of Brutus, Town of Sennett.
Approximately 4,450 feet upstream of Jericho Road | None | •551 |
Putnam Brook Tributary No. 4:
At confluence with Putnam Brook | •566 | •568 | Town of Brutus, Town of Sennett.
Approximately 1,220 feet upstream of Grant Avenue/State Highway 5 | None | •580 |
Seneca River:
Approximately 225 feet downstream of Haiti Road | •383 | •384 | Town of Mentz, Town of Conquest.
Approximately 1.69 miles upstream of Haiti Road | None | •384 |
Seneca River/Erie Canal:
Approximately 80 feet upstream of Jordan Road | •381 | •382 | Town of Mentz, Town of Brutus, Town of Cato, Town of Conquest, Town of Montezuma.
Approximately 8,960 feet upstream of Conrail | None | •384 |
Sucker Brook:
Approximately 1,010 feet upstream of confluence with Owasco Lake | •718 | •717 | Town of Oswasco.
Approximately 2,570 feet upstream of East Lake Road (State Route 38A) | None | •730 |
Unnamed Tributary 2 to Cayuga Lake:
Approximately 65 feet upstream of confluence with Cayuga Lake | •387 | •386 | Village of Union Springs, Town of Springport.
Approximately 585 feet upstream of Creager Road | None | •560 |
City of Auburn
Maps are available for inspection at the Auburn Memorial City Hall, 24 South Street, Auburn, NY 13021.
Send comments to The Honorable Timothy Lattimore, Mayor of the City of Auburn, 24 South Street, Auburn, NY 13021.
Town of Aurelius
Maps are available for inspection at the Aurelius Town Hall, 1241 West Genesee Street Road, Auburn, NY 13021.
Send comments to Mr. Edward J. Ide, Aurelius Town Supervisor, 1241 West Genesee Street Road, Auburn, NY 13021.
Town of Brutus
Maps are available for inspection at the Brutus Town Clerk's Office, 9021 North Seneca Street, Weedsport, NY 13166.
Send comments to Mr. Jeffery Hinman, Brutus Deputy Town Supervisor, 9021 North Seneca Street, Weedsport, NY 13166.
Town of Cato
Maps are available for inspection at the Cato Town Hall, 11320 Shortcut Road, Cato, NY 13033.
Send comments to Mr. Charles Ray, Cato Town Supervisor, 11320 Shortcut Road, Cato, NY 13033.
Town of Conquest
Maps are available for inspection at the Town of Conquest, 1289 Fuller Road, Port Byron, NY 13140.
Send comments to Mr. Charles Knapp, Conquest Town Supervisor, 1289 Fuller Road, Port Byron, NY 13140.
Town of Fleming
Maps are available for inspection at the Town of Fleming, 2433 Dublin Road, Auburn, NY 13021.
Send comments to Mr. James E. Young, Fleming Town Supervisor, 2433 Dublin Road, Auburn, NY 13021.
Town of Genoa
Maps are available for inspection at the Genoa Town Hall, 1000 Bartnick Road, Genoa, NY 13071.
Send comments to Mr. Stuart Underwood, Genoa Town Supervisor, 1000 Bartnick Road, Genoa, NY 13071.
Town of Ledyard
Maps are available for inspection at the Ledyard Town Hall, 1099 Poplar Ridge Road, Aurora, NY 13026.
Send comments to Mr. William Dugan, III, Ledyard Town Supervisor, Town Hall, 1099 Poplar Ridge Road, Aurora, NY 13026.
Town of Locke
Maps are available for inspection at the Town of Locke, 703 State Route 38, Locke, NY 13092.
Send comments to Mr. Paul Palmer, Locke Town Supervisor, 703 State Route 38, Locke, NY 13092.
Town of Mentz
Maps are available for inspection at the Town of Mentz, 14 Mentz Drive, Port Byron, NY 13140.
Send comments to Mr. Jack O'Neil, Mentz Town Supervisor, P.O. Box 798, Port Byron, NY 13140.
Town of Montezuma
Maps are available for inspection at the Town of Montezuma Memorial Building, Dock Street, 52, Montezuma, NY 13117.
Send comments to Mr. William Saroodis, Montezuma Town Supervisor, P.O. Box 357, Montezuma, NY 13117.
Town of Moravia
Maps are available for inspection at the Town of Moravia, 139 Main Street, Moravia, NY 13118.
Send comments to Mr. Gary Hatfield, Moravia Town Supervisor, 139 Main Street, Moravia, NY 13118.
Town of Niles
Maps are available for inspection at the Niles Town Hall, 5921 New Hope Road, Moravia, NY 13118.
Send comments to Mr. John R. Dewitt, Niles Town Supervisor, 5921 New Hope Road, Moravia, NY 13118.
Town of Oswasco
Maps are available for inspection at the Oswasco Town Hall, 2 Bristol Avenue, Auburn, NY 13021.
Send comments to Mr. Michael J. O'Leary, Oswasco Town Supervisor, 2 Bristol Avenue, Auburn, NY 13021.
Town of Scipio
Maps are available for inspection at the Town of Scipio, 3705 State Route 34, Scipio Center, NY 13147.
Send comments to Mr. Charles Howell, Scipio Town Supervisor, Route 34, Box 71, Scipio Center, NY 13147.
Town of Sennett
Maps are available for inspection at the Town of Sennett, 6931 Cherry Street Road, Auburn, NY 13021.
Send comments to Mr. David Sikora, Sennett Town Supervisor, 6931 Cherry Street Road, Auburn, NY 13021.
Town of Springport
Maps are available for inspection at the Springport Town Hall, 859 State Route 326, Cayuga, NY 13034.
Send comments to Mr. Robert Bower, Springport Town Supervisor, 859 State Route 326, Cayuga, NY 13034.
Town of Throop
Maps are available for inspection at the Throop Town Hall, 7471 Robinson Road, Auburn, NY 13021.
Send comments to Mr. William Tarby, Throop Town Supervisor, 7471 Robinson Road, Auburn, NY 13021.
Town of Venice
Maps are available for inspection at the Town of Venice, 1589 McAllister Road, Genoa, NY 13071.
Send comments to Mr. John Grover, Venice Town Supervisor, 1589 McAllister Road, Genoa, NY 13071.
Village of Aurora
Maps are available for inspection at the Aurora Village Office, 456 Main Street, Aurora, NY 13026.
Send comments to The Honorable Thomas Gunderson, Mayor of the Village of Aurora, 456 Main Street, Aurora, NY 13026.
Village of Cayuga
Maps are available for inspection at the Village of Cayuga, 6205 Railroad Street, Cayuga, NY 13034.
Send comments to The Honorable Ronald L. Erickson, Mayor of the Village of Cayuga, P.O. Box 313, Cayuga, NY 13034.
Village of Moravia
Maps are available for inspection at the Moravia Village Office, 22 Central Street, Moravia, NY 13118.
Send comments to The Honorable Donald Myers, Mayor of the Village of Moravia, 22 Central Street, Moravia, NY 13118.
Village of Port Byron
Maps are available for inspection at the Port Byron Village Hall, 52 Utica Street, Port Byron, NY 13140.
Send comments to The Honorable Ronald Wilson, Mayor of the Village of Port Byron, P.O. Box 398, Port Byron, NY 13140.
Village of Union Springs
Maps are available for inspection at the Village of Union Springs, 26 Chapel Street, Union Springs, NY 13160.
Send comments to The Honorable Edward Trufant, Mayor of the Village of Union Springs, P.O. Box 99, Union Springs, NY 13160.
Village of Weedsport
Maps are available for inspection at the Weedsport Village Hall, 8892 South Street, Weedsport, NY 13166.
Send comments to The Honorable Jean Faroodis, Mayor of the Village of Weedsport, 8892 South Street, Weedsport, NY 13166.
NORTH CAROLINA
Hoke County
Beaver Creek:
At the confluence with Black Branch | None | •164 | Hoke County (Unincorporated Areas).
Approximately 100 feet downstream of SR 401 | None | •239 |
Beaver Creek Tributary:
At the confluence with Beaver Creek | None | •182 | Hoke County (Unincorporated Areas).
Approximately 0.3 mile upstream of Doc Brown Road | None | •238 |
Tributary to Beaver Creek Tributary:
At the confluence with Beaver Creek Tributary | None | •237 | Hoke County (Unincorporated Areas).
Approximately 0.3 mile upstream of the confluence with Beaver Creek Tributary | None | •246 |
Big Branch:
Approximately 100 feet upstream of the confluence with Rockfish Creek | None | •128 | Hoke County (Unincorporated Areas).
At the Hoke/Robeson County boundary | None | •144 |
Black Branch:
At the confluence with Puppy Creek | None | •146 | Hoke County (Unincorporated Areas)
Approximately 0.6 mile upstream of Saddlebred Lane | None | •192
Deep Creek:
At the confluence with Mill Creek | None | •189 | Hoke County (Unincorporated Areas)
Approximately 2.9 miles upstream of the confluence of Mill Creek (into Deep Creek) | None | •266
Flat Creek:
At the confluence with Little River | None | •195 | Hoke County (Unincorporated Areas)
Approximately 1.3 miles upstream of the confluence of Flat Creek Tributary | None | •266
Flat Creek Tributary:
At the confluence with Flat Creek | None | •239 | Hoke County (Unincorporated Areas)
Approximately 0.8 mile upstream of the confluence with Flat Creek | None | •268
Gully Branch:
Approximately 250 feet upstream of the confluence with Rockfish Creek | None | •128 | Hoke County (Unincorporated Areas)
Approximately 0.4 mile upstream of Overlake Drive | None | 197
Horse Creek:
At the confluence with Little River | None | •204 | Hoke County (Unincorporated Areas)
Approximately 1.3 miles upstream of the confluence with Little River | None | •231
James Creek:
At the confluence with Little River | None | •210 | Hoke County (Unincorporated Areas)
At the Hoke/Moore County boundary | None | •300
James Creek Tributary:
At the confluence with James Creek | None | •211 | Hoke County (Unincorporated Areas)
Approximately 0.9 mile upstream of the confluence with James Creek | None | •241
Jumping Run Creek:
At the confluence with Little River | None | •182 | Hoke County (Unincorporated Areas)
Approximately 2.1 miles upstream of the confluence with Little River | None | •226
Little River:
At the Hoke/Cumberland County boundary | None | •178 | Hoke County (Unincorporated Areas)
At the Hoke/Moore County boundary | None | •209
Little Rockfish Creek:
At the Hoke/Cumberland boundary | None | •172 | Hoke County (Unincorporated Areas)
Approximately 500 feet downstream of Plank Road | None | • 182
Little Rockfish Creek Tributary 1:
At the confluence with Little Rockfish Creek | None | •180 | Hoke County (Unincorporated Areas)
Approximately 0.2 mile upstream of Plank Road | None | 211
Mill Creek (into Deep Creek):
At the confluence with Deep Creek | None | •199 | Hoke County (Unincorporated Areas)
Approximately 1.4 miles upstream of the confluence with Deep Creek | None | •240
Mill Creek (into Rockfish Creek):
Approximately 200 feet upstream of the confluence with Rockfish Creek | None | •203 | Hoke County (Unincorporated Areas)
Approximately 2.1 miles upstream of the confluence with Rockfish Creek | None | •249
Mill Creek Tributary (into Rockfish Creek):
At the confluence with Mill Creek (into Rockfish Creek) | None | •248 | Hoke County (Unincorporated Areas)
Approximately 0.1 mile upstream of the confluence of Mill Creek (into Rockfish Creek) | None | •260
Mill Creek Tributary (Hoke):
At the confluence with Mill Creek (Hoke) | None | •165 | Hoke County (Unincorporated Areas)
Approximately 0.7 mile upstream of the confluence with Mill Creek (Hoke) | None | •189
Mill Creek (Hoke):
Approximately 350 feet upstream of the confluence of Rockfish Creek | None | •130 | Hoke County (Unincorporated Areas)
Approximately 0.8 mile upstream of Chason Road | None | •178
Nicholsons Creek:
Approximately 300 feet upstream of the confluence with Rockfish Creek | None | •189 | Hoke County (Unincorporated Areas)
Approximately 4.0 miles upstream of the confluence with Mott Lake | None | •310
Pedler Branch:
Approximately 2,200 feet upstream of the confluence with Rockfish Creek | None | •178 | Hoke County (Unincorporated Areas), City of Raeford
At South Main Street | None | •226
Pedler Branch Tributary:
At the confluence with Pedler Branch | None | •215 | Hoke County (Unincorporated Areas), City of Raeford
Approximately 350 feet upstream of the railroad | None | •228
Silver Run:
At the confluence with James Creek | None | •283 | Hoke County (Unincorporated Areas)
Approximately 2,100 feet from the confluence with Jones Creek | None | •292
Stewarts Creek:
Approximately 700 feet upstream of the confluence with Rockfish Creek | None | •122 | Hoke County (Unincorporated Areas)
Approximately 1.2 miles upstream of Lindsay Road | None | •241
Stewarts Creek Tributary:
At the confluence with Stewarts Creek | None | •199 | Hoke County (Unincorporated Areas)
Approximately 1.1 miles upstream of Lindsay Road | None | •235
Tuckahoe Creek:
At the confluence with James Creek | None | •233 | Hoke County (Unincorporated Areas)
Approximately 0.3 mile upstream of the confluence of Tuckahoe Creek | None | •289
Tuckahoe Creek Tributary:
At the confluence with Tuckahoe Creek | None | •277 | Hoke County (Unincorporated Areas).
Approximately 0.5 mile upstream of the confluence with Tuckahoe Creek Tributary | None | •291
Hoke County (Unincorporated Areas)
Maps available for inspection at the Hoke County Permitting Office, 227 North Main Street, Raeford, North Carolina.
Send comments to Mr. Michael Wood, Hoke County Manager, P.O. Box 210, Raeford, North Carolina 28376.
City of Raeford
Maps available for inspection at the Raeford City Hall, Planning Department, 315 North Main Street, Raeford, North Carolina.
Send comments to The Honorable John K. McNeill, III, Mayor of the City of Raeford, 315 North Main Street, Raeford, North Carolina 28376.
WEST VIRGINIA
Raleigh County
Breckenridge Creek:
Approximately 90 feet upstream of the confluence with Marsh Fork | None | •1,762 | Raleigh County (Unincorporated Areas).
Approximately 0.2 mile upstream of State Route 99 | None | •1,991
Clear Fork:
Approximately 0.4 mile upstream of Clear Fork Road | None | •1,126 | Raleigh County (Unincorporated Areas).
Approximately 250 feet upstream of CR 119 | None | •1,602
Crab Orchard Creek:
Approximately 100 feet upstream of the confluence with Piney Creek | •2,232 | •2,231 | Raleigh County (Unincorporated Areas).
Approximately 0.4 mile upstream of Route 54/24 | None | •2,320
Cranberry Creek:
At the confluence of Piney Creek | None | •1,679 | Raleigh County (Unincorporated Areas), City of Beckley.
Approximately 2.3 miles upstream of the upstream side of Stanford Road | None | •2,311
North Sand Branch:
Approximately 40 feet upstream of the confluence with Sand Branch | •1,768 | •1,767 | Raleigh County (Unincorporated Areas).
Approximately 3.9 miles upstream of the confluence with Sand Branch | None | •2,281
Sycamore Creek:
At the confluence with Clear Fork | None | •1,020 | Raleigh County (Unincorporated Areas).
Approximately 2.2 miles upstream of the confluence with Clear Fork | None | •1,230
Tributary 1 to Breckenridge Creek:
At the confluence with Breckenridge Creek | None | •1,973 | Raleigh County (Unincorporated Areas).
Approximately 0.4 mile upstream of the confluence with Breckenridge Creek | None | •1,990
Tributary 2 to Breckenridge Creek:
At the confluence with Breckenridge Creek | None | •1,976 | Raleigh County (Unincorporated Areas).
Approximately 700 feet upstream of the confluence with Breckenridge Creek | None | •1,983
Tributary 3 to Breckenridge Creek:
At the confluence with Breckenridge Creek | None | •1,981 | Raleigh County (Unincorporated Areas).
Approximately 1,000 feet upstream of the confluence with Breckenridge Creek | None | •1,987
White Oak Creek:
Approximately 650 feet upstream of the confluence with Clear Fork | None | •1,336 | Raleigh County (Unincorporated Areas).
Approximately 3.3 miles upstream of the confluence with Clear Fork | None | •1,827
City of Beckley
Maps available for inspection at the Beckley City Municipal Building, 409 South Kanawha Street, Beckley, West Virginia.
Send comments to The Honorable Emmett S. Pugh, III, Mayor of the City of Beckley, P.O. Box 2514, Beckley, West Virginia 25802.
Raleigh County (Unincorporated Areas)
Maps available for inspection at the Raleigh County Commission Building, 16 1/2 North Herber Street, Beckley, West Virginia.
Send comments to Mr. John Aliff, Raleigh County Commission President, 215 Main Street, P.O. Drawer AN, Beckley, West Virginia 25802.

(Catalog of Federal Domestic Assistance No. 83.100, “Flood Insurance.”)

Dated: February 3, 2006.
David I. Maurstad,
Acting Director, Mitigation Division, Federal Emergency Management Agency, Department of Homeland Security.

[FR Doc. E6-2259 Filed 2-15-06; 8:45 am]

BILLING CODE 9110-12-P